DEPARTMENT OF ENERGY

Federal Energy Regulatory Commission

[Docket Nos. RP00-456-000 and CP98-256-003]

Clear Creek Storage Company, L.L.C.; Notice of Tariff Filing

August 15, 2000.

Take notice that on August 10, 2000, Clear Creek Storage Company, L.L.C. (Clear Creek) tendered for filing to become part of its FERC Gas Tariff, Original Volume No. 1, the following tariff sheets, with an effective date of June 1, 2000:

First Revised Sheet No. 4

First Revised Sheet No. 4A

Substitute Original Sheet No. 35

First Revised Sheet No. 38

Original Sheet No. 38A

First Revised Sheet No. 41

Original Sheet No. 41A

First Revised Sheet No. 43

First Revised Sheet No. 44

Original Sheet No. 44A

Clear Creek states that the proposed tariff sheets (1) implement provisions that enable releasing customers to waive the price ceiling for capacity release transactions for a term of less than one year, as provided by Order Nos. 637 and 637-A and (2) incorporate Clear Creek's web page address as follow up to the Commission's May 11, 2000, letter order in Docket No. CP98-256-002. Clear Creek states further that in as much as Section VII of Order No. 637 allows pipelines to combine with any other tariff filing made within the appropriate time frame, its tariff filing to implement the waiver of the maximum price cap, Clear Creek has chosen to combine its tariff filing incorporating the new regulatory changes with a tariff filing that will add its new web page address to Section 2.5 of the General Terms and Conditions of its FERC Gas Tariff.

Clear Creek explains further that although Order Nos. 637 and 637-A mandate an effective date of March 26, 2000, for the waiver of maximum rate ceiling regulations, Clear Creek believes that the proposed effective date is appropriate because it is consistent with the initial date of Original Volume No. 1 of its FERC Gas Tariff.

Clear Creek states that a copy of this filing has been served upon its customers and the Public Service Commission of Wyoming.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-21154 Filed 8-18-00; 8:45 am]

BILLING CODE 6717-01-M